DEPARTMENT OF ENERGY

Federal Energy Regulatory Commission

[Project No. 14787-004]

Black Canyon Hydro, LLC; Notice of Reasonable Period of Time for Water Quality Certification Application

On April 14, 2025, the Wyoming Department of Environmental Quality (Wyoming DEQ) submitted to the Federal Energy Regulatory Commission (Commission) notice that it received a request for a Clean Water Act section 401(a)(1) water quality certification as defined in 40 CFR 121.5, from Black Canyon Hydro, LLC, in conjunction with the above captioned project on March 7, 2025.¹ Pursuant to the Commission's regulations,² we hereby notify Wyoming DEQ of the following.

¹ See memorandum issued April 16, 2025, showing that Wyoming DEQ notified Commission staff via email on April 14, 2025, that it had received the application on March 7, 2025.

² 18 CFR 4.34(b)(5)(iii).

Date of Receipt of the Certification Request: March 7, 2025.

Reasonable Period of Time to Act on the Certification Request: One year, March 7, 2026.

If Wyoming DEQ fails or refuses to act on the water quality certification request on or before the above date, then the certifying authority is deemed waived pursuant to section 401(a)(1) of the Clean Water Act, 33 U.S.C. 1341(a)(1).

Dated: April 16, 2025.
Debbie-Anne A. Reese,
Secretary.

[FR Doc. 2025-06895 Filed 4-21-25; 8:45 am]

BILLING CODE 6717-01-P